DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration announces that OMB extended its approval for a number of information collection requirements found in a number of OSHA's standards and regulations. OSHA sought approval of these requirements under the Paperwork Reduction Act of 1995 (PRA), and, as required by that Act, is announcing the approval numbers and expiration dates for these requirements and regulations.

DATES: This notice is effective July 21, 2016.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards pertaining to general industry, shipyard employment, and the construction industry (i.e., 29 CFR parts 1905, 1910, 1915, 1917, 1918, and 1926), and regulations pertaining to Occupational Safety and Health State Plans, and OSHA Strategic Partnership Program for Worker Safety and Health. In these Federal Register announcements, the Agency provided 60-day comment periods for the public to respond to OSHA's burden hour and cost estimates.

In accord with the PRA (44 U.S.C. 3501-3520), OMB approved these information collection requirements. The table below provides the following information for each of these information collection requirements approved by OMB: the title of the Federal Register notice; the Federal Register reference (date, volume, and leading page); OMB's Control Number; and the new expiration date.

Title of the information collection request | Date of Federal Register publication, Federal Register reference, and OSHA docket No. | OMB control No. | Expiration date
1,2-Dibromo-3 Chloropropane (DBCP) (29 CFR 1910.1044) | May 18, 2015 80 FR 28300 Docket No. OSHA-2012-0010 | 1218-0101 | 12/31/2018
1,3-Butadiene (29 CFR 1910.1051) | October 26, 2015 80 FR 65246 Docket No. OSHA-2012-0027 | 1218-0170 | 05/31/2019
4,4'-Methylenedianiline (MDA) in Construction (29 CFR 1926.60) | December 17, 2015 80 FR 78773 Docket No. OSHA-2012-0031 | 1218-0183 | 06/20/2019
Asbestos in Shipyards (29 CFR 1915.1001) | May 21, 2015 80 FR 29344 Docket No. OSHA-2012-0009 | 1218-0195 | 03/31/2019
Cadmium in General Industry (29 CFR 1910.1027) | June 11, 2015 80 FR 33293 Docket No. OSHA-2012-0005 | 1218-0185 | 12/31/2018
Commercial Diving Operations (29 CFR part 1910, subpart T) | April 7, 2015 80 FR 18647 Docket No. OSHA-2011-0008 | 1218-0069 | 03/31/2019
Hazardous Waste Operations and Emergency Response (HAZWOPER) (29 CFR 1910.120) | August 19, 2015 80 FR 50325 Docket No. OSHA-2011-0862 | 1218-0202 | 03/31/2019
Hexavalent Chromium for General Industry (29 CFR 1910.1026), Shipyard Employment (29 CFR 1915.1026), and Construction (29 CFR 1926.1126) | December 17, 2015 80 FR 78775 Docket No. OSHA-2012-0034 | 1218-0252 | 06/30/2019
Inorganic Arsenic (29 CFR 1910.1018) | January 14, 2015 80 FR 1970 Docket No. OSHA2011-0186 | 1218-0104 | 10/31/2018
Lead in Construction (29 CFR 1926.62) | September 22, 2015 80 FR 57231 Docket No. OSHA-2012-0014 | 1218-0189 | 04/30/2019
Lead in General Industry (29 CFR 1910.1025) | September 25, 2015 80 FR 53878 Docket No. OSHA-2012-0013 | 1218-0092 | 04/30/2019
Marine Terminal Operations (29 CFR part 1917) and Longshoring (29 CFR part 1918) | May 21, 2015 80 FR 29341 Docket No. OSHA-2012-0016 | 1218-0196 | 03/31/2019
Occupational Exposure to Hazardous Chemicals in Laboratories (29 CFR 1910.1450) | December 15, 2014 79 FR 74113 Docket No. OSHA-2011-0059 | 1218-0131 | 12/31/2018
Occupational Safety and Health Act Variance Regulations (29 CFR 1905.10, 1905.11, and 1905.72) | August 20, 2014 79 FR 49342 Docket No. OSHA-2009-0024 | 1218-0265 | 06/30/2018
Occupational Safety and Health State Plans | January 27, 2016 81 FR 4672 Docket No. OSHA-2011-0197 | 1218-0247 | 06-30-2019
OSHA Strategic Partnership Program (OSPP) for Worker Safety and Health | June 19, 2015 80 FR 35402 Docket No. OSHA-2011-0861 | 1218-0244 | 03/31/2019
Temporary Labor Camps (29 CFR 1910.142) | April 29, 2015 80 FR 23822 Docket No. OSHA-2012-0012 | 1218-0096 | 12/31/2018

In accordance with 5 CFR 1320.5(b), an agency cannot conduct, sponsor, or require a response to a collection of information unless the collection displays a valid OMB control number and the Agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on July 15, 2016.
David Michaels,
Assistant Secretary of Labor for Occupational Safety and Health.

[FR Doc. 2016-17226 Filed 7-20-16; 8:45 am]

BILLING CODE 4510-26-P